COMMITTEE FOR THE IMPLEMENTATION OF TEXTILE AGREEMENTS

Adjustment of Import Limits for Certain Wool and Man-Made Fiber Textile Products Produced or Manufactured in Belarus

Correction

In notice document 05-24176 appearing on page 75155 in the issue of Monday, December 19, 2005, in the second column, the table is corrected to read as follows:

Category | Twelve-month restraint limit ¹
448 | 39,265 dozen.
622 | 11,349,484 square meters of which not more than 1,870,794 square meters shall be in Category 622-L ² and not more than 699,661 square meters shall be in Category 622-N ³.
¹ The limits have not been adjusted to account for any imports exported after December 31, 2004.
² Category 622-L: only HTS numbers 7019.51.9010, 7019.52.4010, 7019.52.9010, 7019.59.4010, and 7019.59.9010.
³ Category 622-N: only HTS numbers 7019.52.40.21, 7019.52.90.21, 7019.59.40.21, 7019.59.90.21.

[FR Doc. C5-24176 Filed 12-22-05; 8:45 am]

BILLING CODE 1505-01-D